DEPARTMENT OF AMERICA

Federal Energy Regulatory Commission

Combined Notice of Filings

Take notice that the Commission has received the following Natural Gas Pipeline Rate and Refund Report filings:

Filings Instituting Proceedings

Docket Numbers: RP11-2473-000.

Applicants: Gulf South Pipeline Company, LP.

Description: Annual Cash-In/Cash-Out Filing—2012.

Filed Date: 8/31/12.

Accession Number: 20120831-5044.

Comments Due: 5 p.m. ET 9/12/12.

Docket Numbers: RP11-2474-000.

Applicants: Gulf Crossing Pipeline Company LLC.

Description: Annual Cash-In/Cash-Out Report.

Filed Date: 8/31/12.

Accession Number: 20120831-5043.

Comments Due: 5 p.m. ET 9/12/12.

Docket Numbers: RP12-980-000.

Applicants: Gas Transmission Northwest LLC.

Description: Revising Creditworthiness Language to be effective 10/1/2012.

Filed Date: 8/31/12.

Accession Number: 20120831-5012.

Comments Due: 5 p.m. ET 9/12/12.

Docket Numbers: RP12-982-000.

Applicants: Sea Robin Pipeline Company, LLC.

Description: Hurricane Surcharge Filing on 8-31-12 to be effective 10/1/2012.

Filed Date: 8/31/12.

Accession Number: 20120831-5051.

Comments Due: 5 p.m. ET 9/12/12.

Docket Numbers: RP12-983-000.

Applicants: Florida Gas Transmission Company, LLC.

Description: Fuel Filing on 8-31-12 to be effective 10/1/2012.

Filed Date: 8/31/12.

Accession Number: 20120831-5052.

Comments Due: 5 p.m. ET 9/12/12.

Docket Numbers: RP12-984-000.

Applicants: MoGas Pipeline LLC.

Description: Annual Fuel and Gas Loss Retention Percentage Adjustment to be effective 10/1/2012.

Filed Date: 8/31/12.

Accession Number: 20120831-5053.

Comments Due: 5 p.m. ET 9/12/12.

Docket Numbers: RP12-986-000.

Applicants: WBI Energy Transmission, Inc.

Description: 2012 Semi-annual Fuel & Electric Power Reimbursement to be effective 10/1/2012.

Filed Date: 8/31/12.

Accession Number: 20120831-5059.

Comments Due: 5 p.m. ET 9/12/12.

Docket Numbers: RP12-987-000.

Applicants: Great Lakes Gas Transmission Limited Par.

Description: Treatment of Discounts to be effective 10/1/2012.

Filed Date: 8/31/12.

Accession Number: 20120831-5064.

Comments Due: 5 p.m. ET 9/12/12.

Docket Numbers: RP12-988-000.

Applicants: Gulf South Pipeline Company, LP.

Description: Devon 34694-39 Amendment to Neg Rate Agmt to be effective 9/1/2012.

Filed Date: 8/31/12.

Accession Number: 20120831-5066.

Comments Due: 5 p.m. ET 9/12/12.

Docket Numbers: RP12-989-000.

Applicants: Gulf South Pipeline Company, LP.

Description: Devon 34694-40 Amendment to Neg Rate Agmt to be effective 9/1/2012.

Filed Date: 8/31/12.

Accession Number: 20120831-5068.

Comments Due: 5 p.m. ET 9/12/12.

Docket Numbers: RP12-990-000.

Applicants: Gulf South Pipeline Company, LP.

Description: HK 37731 to Sequent 40088 Cap Rel Neg Rate Agmt filing to be effective 9/1/2012.

Filed Date: 8/31/12.

Accession Number: 20120831-5070.

Comments Due: 5 p.m. ET 9/12/12.

Docket Numbers: RP12-991-000.

Applicants: Gulf South Pipeline Company, LP.

Description: HK 37731 to Texla 40089 Cap Rel Neg Rate Agmt filing to be effective 9/1/2012.

Filed Date: 8/31/12.

Accession Number: 20120831-5071.

Comments Due: 5 p.m. ET 9/12/12.

Docket Numbers: RP12-992-000.

Applicants: Arlington Storage Company, LLC.

Description: Arlington Storage Company, LLC—ACA FIling to be effective 10/1/2012.

Filed Date: 8/31/12.

Accession Number: 20120831-5072.

Comments Due: 5 p.m. ET 9/12/12.

Docket Numbers: RP12-993-000.

Applicants: Transcontinental Gas Pipe Line Company.

Description: Transco Docket No. RP12-xxx Rate Case to be effective 10/1/2012.

Filed Date: 8/31/12.

Accession Number: 20120831-5087.

Comments Due: 5 p.m. ET 9/12/12.

Docket Numbers: RP12-994-000.

Applicants: Carolina Gas Transmission Corporation.

Description: CGT Rate Schedule BH Filing to be effective 10/1/2012.

Filed Date: 8/31/12.

Accession Number: 20120831-5093.

Comments Due: 5 p.m. ET 9/12/12.

Docket Numbers: RP12-995-000.

Applicants: Fayetteville Express Pipeline LLC.

Description: FEP 2012 ACA Filing to be effective 10/1/2012.

Filed Date: 8/31/12.

Accession Number: 20120831-5097.

Comments Due: 5 p.m. ET 9/12/12.

Docket Numbers: RP12-996-000.

Applicants: ETC Tiger Pipeline, LLC.

Description: Tiger 2012 ACA Filing to be effective 10/1/2012.

Filed Date: 8/31/12.

Accession Number: 20120831-5098.

Comments Due: 5 p.m. ET 9/12/12.

Docket Numbers: RP12-997-000.

Applicants: Wyoming Interstate Company, L.L.C.

Description: Interstate Pipeline Nomination Deadline Filing to be effective 10/1/2012.

Filed Date: 8/31/12.

Accession Number: 20120831-5099.

Comments Due: 5 p.m. ET 9/12/12.

Docket Numbers: RP12-998-000.

Applicants: Algonquin Gas Transmission, LLC.

Description: NegRate Pass-through Process to be effective 10/15/2012.

Filed Date: 8/31/12.

Accession Number: 20120831-5100.

Comments Due: 5 p.m. ET 9/12/12.

Docket Numbers: RP12-999-000.

Applicants: Big Sandy Pipeline, LLC.

Description: NegRate Pass-through Process to be effective 10/15/2012.

Filed Date: 8/31/12.

Accession Number: 20120831-5110.

Comments Due: 5 p.m. ET 9/12/12.

Docket Numbers: RP12-1000-000.

Applicants: East Tennessee Natural Gas, LLC.

Description: NegRate Pass-through Process to be effective 10/15/2012.

Filed Date: 8/31/12.

Accession Number: 20120831-5117.

Comments Due: 5 p.m. ET 9/12/12.

Docket Numbers: RP12-1001-000.

Applicants: Maritimes & Northeast Pipeline, L.L.C.

Description: NegRate Pass-through Process to be effective 10/15/2012.

Filed Date: 8/31/12.

Accession Number: 20120831-5122.

Comments Due: 5 p.m. ET 9/12/12.

Docket Numbers: RP12-1002-000.

Applicants: Ozark Gas Transmission, L.L.C.

Description: NegRate Pass-Through Process to be effective 10/15/2012.

Filed Date: 8/31/12.

Accession Number: 20120831-5127.

Comments Due: 5 p.m. ET 9/12/12.

Docket Numbers: RP12-1003-000.

Applicants: Saltville Gas Storage Company L.L.C.

Description: NegRate Pass-Through Process to be effective 10/15/2012.

Filed Date: 8/31/12.

Accession Number: 20120831-5129.

Comments Due: 5 p.m. ET 9/12/12.

Docket Numbers: RP12-1004-000.

Applicants: Texas Eastern Transmission, LP.

Description: NegRate Pass-through Process to be effective 10/15/2012.

Filed Date: 8/31/12.

Accession Number: 20120831-5133.

Comments Due: 5 p.m. ET 9/12/12.

Docket Numbers: RP12-1005-000.

Applicants: Transwestern Pipeline Company, LLC.

Description: 2012 Transwestern Pipeline Co., LLC—Cancellation of Volume No. 2.

Filed Date: 8/31/12.

Accession Number: 20120831-5153.

Comments Due: 5 p.m. ET 9/12/12.

Docket Numbers: RP12-1007-000.

Applicants: Tennessee Gas Pipeline Company, L.L.C.

Description: Volume No. 2—NSD Northeast Supply Diversification Project to be effective 11/1/2012.

Filed Date: 8/31/12.

Accession Number: 20120831-5169.

Comments Due: 5 p.m. ET 9/12/12.

Docket Numbers: RP12-1008-000.

Applicants: Tennessee Gas Pipeline Company, L.L.C.

Description: NSD Project Recourse Rate to be effective 11/1/2012.

Filed Date: 8/31/12.

Accession Number: 20120831-5173.

Comments Due: 5 p.m. ET 9/12/12.

Docket Numbers: RP12-1009-000.

Applicants: Elba Express Company, L.L.C.

Description: ACA Surcharge Filing to be effective 10/1/2012.

Filed Date: 8/31/12.

Accession Number: 20120831-5180.

Comments Due: 5 p.m. ET 9/12/12.

Docket Numbers: RP12-1010-000.

Applicants: Dominion Transmission, Inc.

Description: DTI-August 31, 2012 Negotiated Rate Agreements to be effective 9/1/2012.

Filed Date: 8/31/12.

Accession Number: 20120831-5183.

Comments Due: 5 p.m. ET 9/12/12.

Docket Numbers: RP12-1011-000.

Applicants: Texas Eastern Transmission, LP.

Description: TEAM 2012 In-Service Filing—CP11-67 Compliance to be effective 11/1/2012.

Filed Date: 8/31/12.

Accession Number: 20120831-5184.

Comments Due: 5 p.m. ET 9/12/12.

Docket Numbers: RP12-1013-000.

Applicants: Ruby Pipeline, L.L.C.

Description: Ruby Annual FL&U Filing to be effective 10/1/2012.

Filed Date: 8/31/12.

Accession Number: 20120831-5309.

Comments Due: 5 p.m. ET 9/12/12.

Docket Numbers: RP12-1014-000.

Applicants: Colorado Interstate Gas Company LLC.

Description: CIG Annual FL&U Filing to be effective 10/1/2012.

Filed Date: 8/31/12.

Accession Number: 20120831-5311.

Comments Due: 5 p.m. ET 9/12/12.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

The filings are accessible in the Commission's eLibrary system by clicking on the links or querying the docket number.

eFiling is encouraged. More detailed information relating to filing requirements, interventions, protests, and service can be found at: http://www.ferc.gov/docs-filing/efiling/filing-req.pdf. For other information, call (866) 208-3676 (toll free). For TTY, call (202) 502-8659.

Dated September 5, 2012.
Nathaniel J. Davis, Sr.,
Deputy Secretary

[FR Doc. 2012-22402 Filed 9-11-12; 8:45 am]

BILLING CODE 6717-01-P